SECURITIES AND EXCHANGE COMMISSION

[File No. 500-1]

American Capital Partners Limited, Inc., American Educators Financial Corp. (n/k/a Asia Ventures Corp.), Austral Pacific Energy Ltd., Bidville, Inc. (n/k/a PrimEdge, Inc.), Bio-Warm Corp. (n/k/a PHI Gold Corp.), Black Rock Golf Corp. (a/k/a Aurus Corp.), Broadband Wireless International Corp., BSK & Tech, Inc., and Buffalo Gold Ltd.; Order of Suspension of Trading

September 7, 2011.

It appears to the Securities and Exchange Commission that there is a lack of current and accurate information concerning the securities of American Capital Partners Limited, Inc. because it has not filed any periodic reports since the period ended September 30, 2005.

It appears to the Securities and Exchange Commission that there is a lack of current and accurate information concerning the securities of American Educators Financial Corp. (n/k/a Asia Ventures Corp.) because it has not filed any periodic reports since the period ended September 30, 1993.

It appears to the Securities and Exchange Commission that there is a lack of current and accurate information concerning the securities of Austral Pacific Energy Ltd. because it has not filed any periodic reports since the period ended December 31, 2007.

It appears to the Securities and Exchange Commission that there is a lack of current and accurate information concerning the securities of Bidville, Inc. (n/k/a PrimEdge, Inc.) because it has not filed any periodic reports since the period ended September 30, 2005.

It appears to the Securities and Exchange Commission that there is a lack of current and accurate information concerning the securities of Bio-Warm Corp. (n/k/a PHI Gold Corp.) because it has not filed any periodic reports since the period ended May 31, 2005.

It appears to the Securities and Exchange Commission that there is a lack of current and accurate information concerning the securities of Black Rock Gold Corp. (a/k/a Aurus Corp.) because it has not filed any periodic reports since the period ended March 31, 1998.

It appears to the Securities and Exchange Commission that there is a lack of current and accurate information concerning the securities of Broadband Wireless International Corp. because it has not filed any periodic reports since the period ended March 31, 2006.

It appears to the Securities and Exchange Commission that there is a lack of current and accurate information concerning the securities of BSK & Tech, Inc. because it has not filed any periodic reports since it filed a registration statement on January 23, 2009.

It appears to the Securities and Exchange Commission that there is a lack of current and accurate information concerning the securities of Buffalo Gold Ltd. because it has not filed any periodic reports since the period ended December 31, 2007.

The Commission is of the opinion that the public interest and the protection of investors require a suspension of trading in the securities of the above-listed companies.

Therefore, it is ordered, pursuant to Section 12(k) of the Securities Exchange Act of 1934, that trading in the securities of the above-listed companies is suspended for the period from 9:30 a.m. E.D.T. on September 7, 2011, through 11:59 p.m. E.D.T. on September 20, 2011.

By the Commission.
Jill M. Peterson,
Assistant Secretary.

[FR Doc. 2011-23224 Filed 9-7-11; 4:15 pm]

BILLING CODE 8011-01-P